DEPARTMENT OF HOMELAND SECURITY

Coast Guard

33 CFR Part 165

[Docket No. USCG-2013-0060]

RIN 1625-AA00

Safety Zones; Recurring Events in Captain of the Port Boston Zone

AGENCY: Coast Guard, DHS.

ACTION: Final rule.

SUMMARY: The Coast Guard is adding three new permanent safety zones in the Coast Guard Captain of the Port Boston Zone. When subject to enforcement, these permanent safety zones will restrict vessels from portions of water areas during certain annually recurring marine events. These three new permanent safety zones will ensure the protection of the maritime public and event participants from the hazards associated with these annual recurring events.

DATES: This rule is effective December 9, 2013.

ADDRESSES: Documents mentioned in this preamble are part of docket USCG-2013-0060. To view documents mentioned in this preamble as being available in the docket, go to http://www.regulations.gov, type the docket number in the “SEARCH” Box and click “SEARCH.” Click on Open Docket Folder on the line associated with the rulemaking. You may also visit the Docket Management Facility in Room W12-140 on the ground floor of the Department of Transportation, West Building, 1200 New Jersey Avenue SE., Washington, DC 20590, between 9 a.m. and 5 p.m., Monday through Friday, except Federal holidays.

FOR FURTHER INFORMATION CONTACT: If you have questions on this temporary final rule, call or email Mr. Mark Cutter, Coast Guard Sector Boston Waterways Management Division, telephone 617-223-4000, email Mark.E.Cutter@uscg.mil. If you have questions on viewing or submitting material to the docket, call Barbara Hairston, Program Manager, Docket Operations, telephone 202-366-9826.

SUPPLEMENTARY INFORMATION:

Table of Acronyms

COTP Captain of the Port

DHS Department of Homeland Security

FR Federal Register

NPRM Notice of Proposed Rulemaking

A. Regulatory History and Information

On November 9, 2011, the Coast Guard enacted the current version of 33 CFR 165.118, which establishes several permanent safety zones throughout Captain of the Port Boston zone. On June 14, 2013 the Coast Guard published a notice of proposed rulemaking (NPRM) in the Federal Register (78 FR 35798), proposing to amend 33 CFR 165.118 by establishing three new permanent safety zones. No comments were received. No public meeting was requested, and none was held.

B. Basis and Purpose

The legal basis for the temporary rule is 33 U.S.C. 1226, 1231, 46 U.S.C. Chapter 701, 3306, 3703; 50 U.S.C. 191, 195; Pub. L. 107-295, 116 Stat. 2064; and Department of Homeland Security Delegation No. 0170.1, which collectively authorize the Coast Guard to define regulatory safety zones.

Recently, the Coast Guard Captain of the Port, Sector Boston, determined that public safety requires that a safety zone be enforced around three maritime events that recur annually in Captain of the Port Boston zone. Specifically, the Captain of the Port, Sector Boston, determined that a safety zone is required around the Hull Youth Football Carnival Fireworks, the Boston Harbor Triathlon, and the Boston Harbor Sharkfest Swim.

C. Discussion of Comments, Changes and the Final Rule

For the reasons stated above, the Captain of the Port, Sector Boston, is establishing three new permanent safety zones in 33 CFR 165.118. These new safety zones will be listed in 33 CFR 165.118 as (6.5) Hull Youth Football Carnival Fireworks, (8.8) The Boston Triathlon, and (9.7) Boston Harbor Sharkfest Swim.

The Hull Youth Football Carnival Fireworks safety zone will consist of all waters within a 450-foot radius around the fireworks barge, which will be located at position 42°16.6′ N, 070°51.7′ W. This safety zone will be enforced between 9:00 p.m. and 11:00 p.m. on the third or fourth weekend of June each year.

The Boston Triathlon safety zone will consist of all waters of Boston Inner Harbor within the following points: from 42°21.7′ N, 071°02.1′ W to 42°21.6′ N, 071°02.8′ W to 42°21.7′ N, 071°02.8′ W and then to 42°21.8′ N, 071°02.4′ W. This safety zone will be enforced between 7:00 a.m. and 10:00 a.m. on the second or third weekend of August each year.

The Boston Harbor Sharkfest Swim will consist of all waters of Boston Inner Harbor within the following points: from 42°21.7′ N, 071°02.1′ W to 42°21.8′ N, 071°02.4′ W to 42°21.3′ N, 071°02.9′ W and then to 42°21.3′ N, 071°02.3′ W. This safety zone will be enforced between 10:00 a.m. and 1:00 p.m. on a Saturday during the second or third weekend of September each year.

D. Regulatory Analyses

We developed this rule after considering numerous statutes and executive orders related to rulemaking. Below we summarize our analyses based on these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) Executive Order 12866 or under section 1 of Executive Order 13563. The Office of Management and Budget has not reviewed it under that Order.

The Coast Guard has determined that this rule is not a significant regulatory action for the following reasons: The three new safety zones established by this rule will be enforced for relatively short periods. Also, vessels may enter or pass through the affected waterway with the appropriate permission. Additionally, notification of the safety zone will be made to mariners through the local Notice to Mariners and Broadcast Notice to Mariners well in advance of enforcement.

2. Impact on Small Entities

The Regulatory Flexibility Act of 1980 (RFA), 5 U.S.C. 601-612, as amended requires federal agencies to consider the potential impact of regulations on small entitles during rulemaking. The term “small entities” comprises small businesses, not-for-profit organizations that are independently owned and operated and are not dominant in their fields, and governmental jurisdictions with populations of less than 50,000.

The Coast Guard certifies under 5 U.S.C. 605(b) that this final rule would not have a significant economic impact on a substantial number of small entities. This final rule would affect the following entities, some of which might be small entities: owners or operators of vessels intending to transit, fish, or anchor in the areas where the listed annual recurring events are being held. The final rule will not have a significant economic impact on a substantial number of small entities for the same reasons outlined in the Regulatory Planning and Review section above. The Coast Guard received no comments from the Small Business Administration about this rule.

3. Assistance for Small Entities

Under section 213(a) of the Small Business Regulatory Enforcement Fairness Act of 1996 (Pub. L. 104-121), we want to assist small entities in understanding this rule. If you believe that this rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on States, on the relationship between the national government and the States, or on the distribution of power and responsibilities among the various levels of government. We have analyzed this rule under that Order and determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children From Environmental Health Risks

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “Significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA)(42 U.S.C. 4321-4370f), and have concluded that this action is one of a category of actions that do not individually or cumulatively have a significant effect on the human environment. This rule involves the establishment of three new permanent safety zones and thus, is categorically excluded from further review under, paragraph 34(g) of figure 2-1 of the Commandant Instruction. An environmental analysis checklist and a categorical exclusion determination are available in the docket where indicated under ADDRESSES. We seek any comments or information that may lead to the discovery of a significant environmental impact from this rule.

List of Subjects in 33 CFR Part 165

Marine Safety, Navigation (water), Reporting and Recordkeeping Requirements, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1(g), 6.04-1, 6.04-6, and 160.5; Pub. L. 107-295, 116 Stat. 2064; Department of Homeland Security Delegation No. 0170.1.

2. Revise TABLE 1 to § 165.118 to read as follows:

Table 1
6.0 | June
6.1 Sand and Sea Festival Fireworks | • Event Type: Fireworks Display.
| • Sponsor: Salisbury Beach Partnership, Inc.
| • Date: A one-night event on Saturday during the last weekend of June, as specified in the USCG District 1 Local Notice to Mariners.
| • Time: 10:00 p.m. to 10:30 p.m.
| • Location: All waters of the Atlantic Ocean near Salisbury Beach within a 350-yard radius of the fireworks launch site located at position 42°50.6′ N, 70°48.4′ W (NAD 83).
6.2 St. Peter's Fiesta Fireworks | • Event Type: Fireworks Display.
| • Sponsor: St. Peters Fiesta.
| • Date: A one-night event on Saturday during the last weekend of June, as specified in the USCG District 1 Local Notice to Mariners.
| • Time: 8:00 p.m. to 10:00 p.m.
| • Location: All waters of Gloucester Harbor, Stage Fort Park, within a 350-yard radius of the fireworks launch site on the beach located at position 42°36.3′ N, 070°40.5′ W (NAD 83).
6.3 Surfside Fireworks | • Event Type: Fireworks Display.
| • Sponsor: Salisbury Beach Partnership and Chamber of Commerce.
| • Date: Every Saturday from June through September, as specified in the USCG District 1 Local Notice to Mariners.
| • Time: 9:30 p.m. to 10:30 p.m.
| • Location: All waters of the Atlantic Ocean near Salisbury Beach, MA, within a 350-yard radius of the fireworks barge located at position 42°50.6′ N, 070°48.4′ W (NAD 83).
6.4 Cohasset Triathlon | • Event Type: Swim.
| • Sponsor: Bill Burnett.
| • Date: A one-day event on Sunday during the last weekend of June, as specified in the USCG District 1 Local Notice to Mariners.
| • Time: 08:30 a.m. to 10:00 a.m.
| • Location: All waters in the vicinity of Cohasset Harbor around Sandy Beach, within the following points (NAD 83):
| 42°15.6′ N, 070°48.1′ W.
| 42°15.5′ N, 070°48.1′ W.
| 42°15.4′ N, 070°47.9′ W.
| 42°15.4′ N, 070°47.8′ W.
6.5 Hull Youth Football Carnival Fireworks | • Event Type: Fireworks Display.
| • Sponsor: Hull Youth Football.
| • Date: A one-night event on the third or fourth weekend of June, as specified in the USCG District 1 Local Notice to Mariners Time: 9:00 p.m. to 11:00 p.m.
| • Location: All waters within a 450-foot radius of the fireworks barge located approximately 500 feet of off Nantasket Beach, Hull MA located at position 42°16.6′ N, 070°51.7′ W (NAD 83).
7.0 | July
7.1 City of Lynn 4th of July Celebration Fireworks | • Event Type: Firework Display.
| • Sponsor: City of Lynn.
| • Date: July 3rd, as specified in the USCG District 1 Local Notice to Mariners.
| • Time: 6:00 p.m. to 11:00 p.m.
| • Location: All waters of Nahant Bay, within a 350-yard radius of the fireworks barge located at position 42°27.62 ′ N, 070°55.58′ W (NAD 83).
7.2 Gloucester July 4th Celebration Fireworks | • Event Type: Fireworks Display.
| • Sponsor: The Gloucester Fund.
| • Date: July 3rd, as specified in the USCG District 1 Local Notice to Mariners.
| • Time: 10:30 p.m. to 11:00 p.m.
| • Location: All waters of Gloucester Harbor, Stage Fort Park, within a 350-yard radius of the fireworks launch site on the beach located at position 42°36.3′ N, 070°40.5′ W (NAD 83).
7.3 Manchester by the Sea Fireworks | • Event Type: Fireworks Display.
| • Sponsor: Manchester Parks and Recreation Department.
| • Date: July 4th, as specified in the USCG District 1 Local Notice to Mariners.
| • Time: 8:30 p.m. to 10:00 p.m.
| • Location: All waters of Manchester Bay within a 350-yard radius of the fireworks launch site barge located at position 42°35.03′ N, 070°45.52′ W (NAD 83).
7.4 Weymouth 4th of July Celebration Fireworks | • Event Type: Fireworks Display.
| • Sponsor: Town of Weymouth 4th of July Committee.
| • Date: Friday or Saturday during the first weekend before July 4th, as specified in the USCG District 1 Local Notice to Mariners.
| • Time: 8:00 p.m. to 10:30 p.m.
| • Location: All waters of Weymouth Fore River, within a 350-yard radius of the fireworks launch site located at position 42°15.5′ N, 070°56.1′ W (NAD 83).
7.5 Beverly 4th of July Celebration Fireworks | • Event Type: Fireworks Display.
| • Sponsor: Beverly Harbormaster.
| • Date: July 4th, as specified in the USCG District 1 Local Notice to Mariners.
| • Time: 9:00 p.m. to 11:00 p.m.
| • Location: All waters of Beverly Harbor within a 350-yard radius of the fireworks launch barge located at position 42°32.62′ N, 070°52.15′ W (NAD 83).
7.6 Beverly Farms 4th of July Celebration Fireworks | • Event Type: Fireworks Display.
| • Sponsor: Farms-Pride 4th of July Committee.
| • Date: July 4th, as specified in the USCG District 1 Local Notice to Mariners.
| • Time: 9:00 p.m. to 9:30 p.m.
| • Location: All waters of Manchester Bay within a 350-yard radius of the fireworks launch site near West Beach located at position 42°33.84′ N, 070°48.5′ W (NAD 83).
7.7 Boston Pops Fireworks | • Event Type: Fireworks Display.
| • Sponsor: Boston 4 Celebrations.
| • Date: July 4th, as specified in the USCG District 1 Local Notice to Mariners.
| • Time: 8:30 p.m. to 11:00 p.m.
| • Location: All waters of the Charles River within a 350-yard radius of the fireworks barges located in the vicinity of position 42°21.47′ N, 071°05.03′ W (NAD 83).
7.8 City of Salem Fireworks | • Event Type: Fireworks Display.
| • Sponsor: City of Salem.
| • Date: July 4th, as specified in the USCG District 1 Local Notice to Mariners.
| • Time: 9:00 p.m. to 10:00 p.m.
| • Location: All waters of Salem Harbor, within a 350-yard radius of the fireworks launch site located on Derby Wharf at position 42°31.15′ N, 070°53.13′ W (NAD 83).
7.9 Marblehead 4th of July Fireworks | • Event Type: Fireworks Display.
| • Sponsor: Town of Marblehead.
| • Date: July 4th, as specified in the USCG District 1 Local Notice to Mariners.
| • Time: 8:30 p.m. to 9:30 p.m.
| • Location: All waters of Marblehead Harbor within a 350-yard radius of the fireworks launch site located at position 42°30.34′ N, 070°50.13′ W (NAD 83).
7.10 Plymouth 4th of July Fireworks | • Event Type: Fireworks Display.
| • Sponsor: July 4 Plymouth, Inc.
| • Date: July 4th, as specified in the USCG District 1 Local Notice to Mariners.
| • Time: 9:00 p.m. to 10:00 p.m.
| • Location: All waters of Plymouth Harbor within a 350-yard radius of the fireworks launch site located at position 42°57.3′ N, 070°38.3′ W (NAD 83).
7.11 Town of Nahant Fireworks | • Event Type: Fireworks Display.
| • Sponsor: Town of Nahant.
| • Date: July 4th, as specified in the USCG District 1 Local Notice to Mariners.
| • Time: 9:00 p.m. to 11:00 p.m.
| • Location: All waters of Nahant Harbor within a 350-yard radius of the fireworks launch site on Bailey's Hill Park located at position 42°25.1′ N, 070°55.8′ W (NAD 83).
7.12 Town of Revere Fireworks | • Event Type: Fireworks Display.
| • Sponsor: Town of Revere.
| • Date: July 4th, as specified in the USCG District 1 Local Notice to Mariners.
| • Time: 9:00 p.m. to 11:00 p.m.
| • Location: All waters of Broad Sound, within a 350-yard radius of the fireworks launch site located at Revere Beach at position 42°24.5′ N, 070°59.47′ W (NAD 83).
7.13 Yankee Homecoming Fireworks | • Event Type: Fireworks Display.
| • Sponsor: Yankee Homecoming.
| • Date: A one-day event on Saturday during the last weekend of July or first weekend of August, as specified in the USCG District 1 Local Notice to Mariners.
| • Time: 9:00 p.m. to 10:00 p.m.
| • Location: All waters of the Merrimack River, within a 350-yard radius of the fireworks launch site located at position 42°48.97′ N, 070°52.68′ W (NAD 83).
7.14 Hingham 4th of July Fireworks | • Event Type: Fireworks Display.
| • Sponsor: Hingham Lions Club.
| • Date: July 4th, as specified in the USCG District 1 Local Notice to Mariners.
| • Time: 8:00 p.m. to 10:00 p.m.
| • Location: All waters within a 350-yard radius of the beach on Button Island located at position 42°15.07′ N, 070°53.03′ W (NAD 83).
7.15 Ipswich Independence Day Celebration Fireworks | • Event Type: Fireworks Display.
| • Sponsor: Trustees of the Foundation.
| • Date: July 4th, as specified in the USCG District 1 Local Notice to Mariners.
| • Time: 9:00 p.m. to 10:00 p.m.
| • Location: All waters of Ipswich Bay within a 350-yard radius of the beach located at position 42°41.43′ N, 070°46.49′ W (NAD 83).
7.16 Salisbury Maritime Festival Fireworks | • Event Type: Fireworks Display.
| • Sponsor: Salisbury Beach Partnership, Inc.
| • Date: A one-day event on Saturday during the third weekend of July, as specified in the USCG District 1 Local Notice to Mariners.
| • Time: 10:00 p.m. to 10:30 p.m.
| • Location: All waters of the Atlantic Ocean near Salisbury Beach within a 350-yard radius of the fireworks launch site located at position 42°50.6′ N, 070°48.4′ W (NAD 83).
7.17 Salisbury 4th of July Fireworks | • Event Type: Fireworks Display.
| • Sponsor: Salisbury Chamber of Commerce.
| • Date: July 4th, as specified in the USCG District 1 Local Notice to Mariners.
| • Time: 9:30 p.m. to 11:00 p.m.
| • Location: All waters of the Atlantic Ocean near Salisbury Beach within a 350-yard radius of the fireworks launch site located at position 42°50.6′ N, 070°48.4′ W (NAD 83).
7.18 Charles River 1-Mile Swim | • Event Type: Swim.
| • Sponsor: Charles River Swimming Club, Inc.
| • Date: A one-day event held on the second Sunday in July, as specified in the USCG District 1 Local Notice to Mariners.
| • Time: 8:00 a.m. to 9:00 a.m.
| Location: All waters of Charles River between the Longfellow Bridge and the Harvard Bridge within the following points (NAD 83):
| 42°21.7′ N, 071°04.8′ W.
| 42°21.7′ N, 071°04.3′ W.
| 42°22.2′ N, 071°07.3′ W.
| 42°22.1′ N, 070°07.4′ W.
7.19 Swim Across America Boston | • Event Type: Swim.
| • Sponsor: Swim Across America.
| • Date: A one-day event on Friday during the third week of July, as specified in the USCG District 1 Local Notice to Mariners.
| • Time: 7:00 a.m. to 3:00 p.m.
| • Location: All waters of Boston Harbor between Rowes Warf and Little Brewster Island within the following points (NAD 83):
| 42°21.4′ N, 071°03.0′ W.
| 42°21.5′ N, 071°02.9′ W.
| 42°19.8′ N, 070°53.6′ W.
| 42°19.6′ N, 070°53.4′ W.
7.20 Joppa Flats Open Water Mile | • Event Type: Swim.
| • Sponsor: Newburyport YMCA.
| • Date: A one-day event on Saturday during the last week of July, as specified in the USCG District 1 Local Notice to Mariners.
| • Time: 3:00 p.m. to 5:00 p.m.
| • Location: All waters of the Merrimack River located in the Joppa Flats within the following points (NAD 83):
| 42°48.6′ N, 070°50.9′ W.
| 42°48.6′ N, 070°49.4′ W.
| 42°48.0′ N, 070°49.4′ W.
| 42°48.0′ N, 070°57.0′ W.
7.21 Swim Across America Nantasket Beach | • Event Type: Swim.
| • Sponsor: Swim Across America.
| • Date: A one-day event on Sunday during the third week of July, as specified in the USCG District 1 Local Notice to Mariners.
| • Time: 7:00 a.m. to 9:30 a.m.
| • Location: All waters of Massachusetts Bay near Nantasket Beach within the following points (NAD 83):
| 42°16.7′ N, 070°51.9′ W.
| 42°16.9′ N, 070°51.3′ W.
| 42°16.3′ N, 070°50.5′ W.
| 42°16.1′ N, 070°51.0′ W.
8.0 | August
8.1 Beverly Homecoming Fireworks | • Event Type: Fireworks Display.
| • Sponsor: Beverly Harbormaster.
| • Date: A one-day event on Sunday during the first weekend of August, as specified in the USCG District 1 Local Notice to Mariners.
| • Time: 9:00 p.m. to 11:00 p.m.
| • Location: All waters of Beverly Harbor within a 350-yard radius of the fireworks barge located at position 42°32.62′ N, 070°52.15′ W (NAD 83).
8.2 Celebrate Revere Fireworks | • Event Type: Fireworks Display.
| • Sponsor: Town of Revere.
| • Date: A one-day event on Saturday during the first weekend of August, as specified in the USCG District 1 Local Notice to Mariners.
| • Time: 9:00 p.m. to 11:00 p.m.
| • Location: All waters within a 350-yard radius of the fireworks launch site located at Revere Beach at position 42°24.5′ N, 070°59.47′ W (NAD 83).
8.3 Gloucester Fisherman Triathlon | • Event Type: Swim.
| • Sponsor: Gloucester Fisherman Athletic Association.
| • Date: A one-day event on Sunday during the Second week of August, as specified in the USCG District 1 Local Notice to Mariners.
| • Time: 7:30 a.m. to 8:30 a.m.
| • Location: All waters of Western Harbor, within the following points (NAD 83):
| 42°36.6′ N, 070°40.3′ W.
| 42°36.5′ N, 070°40.2′ W.
| 42°36.4′ N, 070°40.7′ W.
| 42°36.5′ N, 070°40.7′ W.
8.4 Urban Epic Triathlon | • Event Type: Swim.
| • Sponsor: Tri-Maine/Urban Epic Events.
| • Date: A one-day event on Sunday during the second week of August, as specified in the USCG District 1 Local Notice to Mariners.
| • Time: 7:00 a.m. to 10:00 a.m.
| • Location: All waters of Dorchester Bay within the following points (NAD 83):
| 42°18.9′ N, 071°02.0′ W.
| 42°18.9′ N, 071°01.8′ W.
| 42°19.5′ N, 071°01.8′ W.
| 42°19.8′ N, 071°02.2′ W.
8.5 Celebrate the Clean Harbor Swim | • Event Type: Swim.
| • Sponsor: New England Marathon Swimming Association.
| • Date: A one-day event on Saturday during the third week of August, as specified in the USCG District 1 Local Notice to Mariners.
| • Time: 9:00 a.m. to 12:00 p.m.
| • Location: All waters of Gloucester Harbor within the following points (NAD 83):
| 42°35.3′ N, 070°39.8′ W.
| 42°35.9′ N, 070°39.2′ W.
| 42°35.9′ N, 070°39.8′ W.
| 42°35.3′ N, 070°40.2′ W.
8.6 Boston Light Swim | • Event Type: Swim.
| • Sponsor: Boston Light Swim.
| • Date: A one-day event on Sunday during the second week of August, as specified in the USCG District 1 Local Notice to Mariners.
| • Time: 8:00 a.m. to 1:00 p.m.
| • Location: All waters of Boston Harbor between the L Street Bath House and Little Brewster Island within the following points (NAD 83):
| 42°19.7′ N, 071°02.2′ W.
| 42°19.9′ N, 071°10.7′ W.
| 42°19.8′ N, 070°53.6′ W.
| 42°19.6′ N, 070°53.4′ W.
8.7 Sharkfest Swim | • Event Type: Swim.
| • Sponsor: Enviro-Sports Productions, Inc.
| • Date: A one-day event on Sunday during the last week of August, as specified in the USCG District 1 Local Notice to Mariners.
| • Time: 10:00 a.m. to 12:00 p.m.
| • Location: All waters of Old Harbor from near Columbia Point to Carson Beach within the following points (NAD 83):
| 42°19.1′ N, 071°02.2′ W.
| 42°19.2′ N, 071°01.9′ W.
| 42°19.7′ N, 071°02.8′ W.
| 42°19.4′ N, 071°02.9′ W.
8.8 The Boston Triathlon | • Event Type: Swim.
| • Sponsor: Wilkinson Enterprises, Inc.
| • Date: A one-day event on the second or third weekend of August, as specified in the USCG District 1 Local Notice to Mariners.
| • Time: 7:00 a.m. to 10:00 a.m.
| • Location: All waters of Boston Inner Harbor, Piers Park East Boston to Columbus Park, Boston, Ma within the following points (NAD 83):
| 42°21.7′ N, 071°02.1′ W.
| 42°21.6′ N, 071°02.8′ W.
| 42°21.7′ N, 071°02.8′ W.
| 42°21.8′ N, 071°02.4′ W.
9.0 | September
9.1 Gloucester Schooner Festival Fireworks | • Event Type: Fireworks Display.
| • Sponsor: Stage Fort Park Gloucester.
| • Date: A one-day event on Saturday during the first weekend of September, as specified in the USCG District 1 Local Notice to Mariners.
| • Time: 7:00 p.m. to 11:00 p.m.
| • Location: All waters of Gloucester Harbor within a 350-yard radius of the launch site on the beach located at position 42°36.3′ N, 070°40.5′ W (NAD 83).
9.2 Plymouth Yacht Club Celebration Fireworks | • Event Type: Fireworks Display.
| • Sponsor: Plymouth Yacht Club.
| • Date: A one-day event on Saturday during the first weekend of September, as specified in the USCG District 1 Local Notice to Mariners.
| • Time: 9:00 p.m. to 11:00 p.m.
| • Location: All waters of Plymouth Harbor within a 350-yard radius of the fireworks barge located at position 41°22.3′ N, 070°39.4′ W (NAD 83).
9.3 Somerville Riverfest Fireworks | • Event Type: Fireworks Display.
| • Sponsor: Federal Realty Investment Trust.
| • Date: A one-day event on Saturday during the last weekend of September, as specified in the USCG District 1 Local Notice to Mariners.
| • Time: 7:30 p.m. to 10:00 p.m.
| • Location: All waters of the Mystic River within a 350-yard radius of the fireworks barge located at position 42°23.9′ N, 071°04.8′ W (NAD 83).
9.4 Mayflower Triathlon | • Event Type: Swim.
| • Sponsor: Fast Forward Race Management.
| • Date: A one-day event on Saturday during the first weekend of September, as specified in the USCG District 1 Local Notice to Mariners.
| • Time: 10:00 a.m. to 11:00 a.m.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.5 Plymouth Rock Triathlon | • Event Type: Swim.
| • Sponsor: Fast Forward Race Management.
| • Date: A one-day event on Sunday during the first weekend of September, as specified in the USCG District 1 Local Notice to Mariners.
| • Time: 7:00 a.m. to 9:30 a.m.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.6 Duxbury Beach Triathlon | • Event Type: Swim.
| • Sponsor: Duxbury Beach Triathlon.
| • Date: A one-day event on Saturday during the third weekend of September, as specified in the USCG District 1 Local Notice to Mariners.
| • Time: 08:30 a.m. to 09:30 a.m.
| • Location: All waters of Duxbury Bay on the south side of the Powder Point Bridge within the following points (NAD 83):
| 42°02.8′ N, 070°39.1′ W.
| 42°03.0′ N, 070°38.7′ W.
| 42°02.8′ N, 070°38.6′ W.
| 42°02.7′ N, 070°39.0′ W.
9.7 Boston Harbor Sharkfest Swim | • Event Type: Swim.
| • Sponsor: Enviro-Sports Productions, Inc.
| • Date: A one-day event on a Saturday during the second or third weekend in September, as specified in the USCG District 1 Local Notice to Mariners.
| • Time: 10:00 a.m. to 1:00 p.m.
| • Location: All waters of Boston Inner Harbor, Piers Park East Boston to Fan Pier, South Boston, Ma within the following points (NAD 83):
| 42°21.7′ N, 071°02.1′ W.
| 42°21.8′ N, 071°02.4′ W.
| 42°21.3′ N, 071°02.9′ W.
| 42°21.3′ N, 071°02.3′ W.
10.0 | October
10.1 Intercontinental Fireworks | • Event Type: Fireworks Display.
| • Sponsor: Intercontinental Hotel.
| • Date: A one-day event on Sunday during the last weekend of October, as specified in the USCG District 1 Local Notice to Mariners.
| • Time: 8:30 p.m. to 10:30 p.m.
| Location: All waters of Boston Inner Harbor within a 350-yard radius of the fireworks barge located at position 42°21.2′ N, 071°03′ W (NAD 83).
12.0 | December
12.1 First Night Boston Fireworks | • Event Type: Fireworks Display.
| • Sponsor: First Night, Inc.
| • Date: A one-day event on New Year's Eve, as specified in the USCG District 1 Local Notice to Mariners.
| • Time: 11:30 p.m. to 12:30 a.m.
| • Location: All waters of Boston Inner Harbor within a 350-yard radius of the fireworks barge located at position 42°21.7′ N, 071°02.6′ W (NAD 83).

Dated: October 15, 2013.
J.C. O'Connor, III,
Captain, U.S. Coast Guard, Captain of the Port Boston.

[FR Doc. 2013-26826 Filed 11-7-13; 8:45 am]

BILLING CODE 9110-04-P